INTERNATIONAL TRADE COMMISSION

[Investigation Nos. 731-TA-865-867 (Second Review)]

Stainless Steel Butt-Weld Pipe Fittings From Italy, Malaysia, and the Philippines

Determination

On the basis of the record ¹ developed in the subject five-year reviews, the United States International Trade Commission (Commission) determines, pursuant to section 751(c) of the Tariff Act of 1930 (19 U.S.C. 1675(c)), that revocation of the antidumping duty orders on stainless steel butt-weld pipe fittings From Italy, Malaysia, and the Philippines would be likely to lead to continuation or recurrence of material injury to an industry in the United States within a reasonably foreseeable time.

¹ The record is defined in sec. 207.2(f) of the Commission's Rules of Practice and Procedure (19 CFR 207.2(f)).

Background

The Commission instituted these reviews on November 1, 2011 (76 FR 67473) and determined on February 6, 2012 that it would conduct expedited reviews (77 FR 10773, February 23, 2012). On March 21, 2012, the Commission revised its schedule in these expedited reviews (77 FR 18266, March 27, 2012).

The Commission transmitted its determinations in these reviews to the Secretary of Commerce on June 28, 2012. The views of the Commission are contained in USITC Publication 4337 (June 2012), entitled Stainless Steel Butt-Weld Pipe Fittings from Italy, Malaysia, and the Philippines: Inv. Nos. 731-TA-865-867 (Second Review).

Issued: June 28, 2012.
By order of the Commission.
Lisa R. Barton,
Acting Secretary to the Commission.

[FR Doc. 2012-16360 Filed 7-3-12; 8:45 am]

BILLING CODE 7020-02-P